DEPARTMENT OF TRANSPORTATION

Office of the Secretary

Transportation Research and Development Strategic Plan

AGENCY: Office of the Assistant Secretary for Research and Technology (OST-R), Department of Transportation (DOT).

ACTION: Request for Information (RFI).

SUMMARY: Section 6019 of the Fixing America's Surface Transportation Act (FAST Act; Pub. L. 114-94; December 4, 2015; codified at 49 U.S.C. 6503) requires that the Secretary develop a 5-year transportation research and development strategic plan to guide future Federal transportation research and development activities. The FAST Act states that the strategic plan shall “describe how the plan furthers the primary purpose of the transportation research and development program.

DATES: Comments must be received by April 29, 2016.

ADDRESSES: To ensure that you do not duplicate your docket submissions, please submit them by only one of the following means:

• Federal eRulemaking Portal: Go to http://www.regulations.gov and follow the online instructions for submitting comments.

• Mail: U.S. Department of Transportation, Dockets Management Facility, Room W12-140, 1200 New Jersey Ave. SE., Washington, DC 20590-0001.

• Hand Delivery: West Building Ground Floor, Room W12-140, 1200 New Jersey Ave. SE., between 9 a.m. 5 p.m., Monday through Friday, except Federal holidays. The telephone number is (202) 366-9329.

All comments must include the docket number DOT-OST-2016-0044 at the beginning of the submission. All comments received will be posted without change to http://www.regulations.gov, including any personal information provided.

FOR FURTHER INFORMATION CONTACT: Aaron Jette, Community Planner, U.S. DOT Volpe Center, Attn: Aaron Jette; Office 460; 55 Broadway, Cambridge, MA 02142. Telephone (617) 494-2335 or Email RDTPlan@dot.gov.

SUPPLEMENTARY INFORMATION: The FAST Act states that the strategic plan shall “describe how the plan furthers the primary purpose of the transportation research and development program, which shall include—

(A) Improving mobility of people and goods;

(B) Reducing congestion;

(C) Promoting safety;

(D) Improving the durability and extending the life of transportation infrastructure;

(E) Preserving the environment;

(F) Preserving the existing transportation system.”

The FAST Act also requires that the strategic plan take into account research and development by other Federal, State, local, private sector and non-profit institutions.

The Office of the Assistant Secretary for Research and Technology invites the public to provide comments to inform the development of the 5-year strategic plan for transportation Research, Development and Technology (RD&T). Comments should regard appropriate RD&T activities to meet the purposes and considerations listed in the FAST Act and/or emerging RD&T challenges, opportunities, and priorities that U.S. DOT RD&T should address over the next five years. In particular, comments may respond to any or all of the following questions:

1. What research strategies and priorities should the U.S. DOT adopt to achieve the primary purposes cited in the FAST Act?

2. How can the issues raised in the U.S. DOT document “Beyond Traffic 2045: Trends and Choices” be strategically addressed by RD&T activities over the next five years?

3. What emerging challenges or opportunities in transportation warrant additional Federal RD&T activities or investments?

4. What current and planned RD&T activities sponsored by the federal government should be continued or revised in the future?

5. What strategies could improve the cost-effectiveness of U.S. DOT research investments?

6. How can U.S. DOT best coordinate its RD&T activities with Federal, State, local, private sector, non-profit institutions, and international partners?

7. What knowledge gaps merit additional exploration by the USDOT?

For information about current U.S. DOT RD&T activities please visit the Department's Web site at: https://www.transportation.gov/research-and-statistics.

The U.S. DOT RD&T Strategic Plan will present the Department's strategy for responding to the trends and opportunities identified in Beyond Traffic 2045: Trends and Choices (www.transportation.gov/BeyondTraffic). Beyond Traffic examines the long-term and emerging trends affecting our Nation's transportation system and the implications of those trends. It describes how demographic and economic trends, as well as changes in technology, governance, and our climate are affecting how people and goods travel today, and how they could affect travel in the future. Beyond Traffic provides a framework for identifying U.S. DOT RD&T priorities that will advance technologies and inform decisions regarding how we move, how we move things, how we move better, how we adapt, and how we align decisions and dollars.

Issued in Washington, DC, on March 23, 2016.
Gregory D. Winfree,
Assistant Secretary for Research and Technology.

[FR Doc. 2016-07139 Filed 3-29-16; 8:45 am]

BILLING CODE 4910-9X-P